FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011637-009.

Title: Ampac Cooperative Working Agreement.

Parties: Compania Chilena de Navegacion Interoceanica, S.A.; Hamburg-Südamerikanische Dampfschifffahrtsgesellschaft KG; Maruba S.C.A.; TMM Lines Limited, LLC.

Synopsis: The proposed modification deletes the “Columbus Line” trade name of Hamburg-Süd and indicates that TMM will resign from the agreement on or about March 11, 2004.

Agreement No.: 011637-010.

Title: Ampac Cooperative Working Agreement.

Parties: Compania Chilena de Navegacion Interoceanica, S.A.; Hamburg-Südamerikanische Dampfschifffahrtsgesellschaft KG; Maruba S.C.A.

Synopsis: The proposed agreement modification adds Japan to the geographic scope of the agreement, reflects changes in the provision of vessels due to TMM's departure, deletes certain restrictions on the use of space, adds restrictions on competing services, establishes a new minimum duration for the revised agreement, and restates the agreement. The parties request expedited review.

Agreement No.: 011649-004.

Title: Joint Operating Agreement Between Interocean Lines, Inc. and Trinity Shipping Line, S.A.

Parties: Interocean Lines, Inc. and Trinity Shipping Line, S.A.

Synopsis: The proposed amendment deletes the understanding between the parties that terminal services will be provided by specific companies in Ecuador.

Dated: December 12, 2003.
By Order of the Federal Maritime Commission.
Bryant L. VanBrakle,
Secretary.

[FR Doc. 03-31142 Filed 12-16-03; 8:45 am]

BILLING CODE 6730-01-P